DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: HRSA AIDS Education and Training Centers Evaluation Activities (OMB No. 0915-0281)—Revision

The AIDS Education and Training Centers (AETC) Program, under the Ryan White HIV/AIDS Treatment Modernization Act of 2006, supports a network of regional and cross-cutting national centers that conduct targeted, multi-disciplinary education and training programs for health care providers treating persons with HIV/AIDS. The purpose of the AETCs is to increase the number of health care providers who are effectively educated and motivated to counsel, diagnose, treat, and medically manage individuals with HIV infection, and to help prevent high risk behaviors that lead to HIV transmission.

As part of an ongoing evaluation effort of AETC activities, information is needed on AETC training sessions, consultations, and technical assistance activities. Each regional center collects forms on AETC training events, and centers are required to report aggregate data on their activities to HRSA and the HIV/AIDS Bureau (HAB). This data collection provides information on the number of training events, including clinical trainings and consultations, as well as technical assistance activities conducted by each regional center, the number of health care providers receiving professional training or consultation, and the time and effort expended on different levels of training and consultation activities. In addition, information is obtained on the populations served by the AETC trainees, and the increase in capacity achieved through training events. Collection of this information allows HRSA/HAB to provide information on training activities, types of education, and training provided to Ryan White CARE Act grantees, resource allocation, and capacity expansion.

Trainees are asked to complete the Participant Information Form (PIF) for each activity they complete, and trainers are asked to complete the Event Record (ER). The estimated annual response burden to the attendees of training programs is as follows:

Form | Number of respondents | Responses per respondent | Total responses | Hours per response | Total burden hours
PIF | 94,641 | 1 | 94,641 | 0.2 | 18,928.2
Total | 94,641 |  | 94,641 |  | 18,928.2

The estimated annual burden to AETCs is as follows:

Form | Number of respondents | Responses per respondent | Total responses | Hours per response | Total burden hours
Event Record | 16,417 | 1 | 16,417 | 0.2 | 3,283
Aggregate Data Set | 12 | 2 | 24 | 32 | 768
Total | 16,429 |  | 16,441 |  | 4,051

The total burden hours are 22,979.2.

Written comments and recommendations concerning the proposed information collection should be sent within 30 days of this notice to: Karen Matsuoka, Human Resources and Housing Branch, Office of Management and Budget, New Executive Office Building, Room 10235, Washington, DC 20503.

Dated: January 24, 2007.
Caroline Lewis,
Acting Associate Administrator for Administration and Financial Management.

[FR Doc. E7-1438 Filed 1-29-07; 8:45 am]

BILLING CODE 4165-15-P